Proclamation 8779 of March 1, 2012

Irish-American Heritage Month, 2012

By the President of the United States of America

A Proclamation

For centuries, America and Ireland have built a proud and enduring partnership cemented by mutual values and a common history. Generations of Irish have crossed the Atlantic in pursuit of prosperity, and today nearly 40 million of their proud descendants continue to make their indelible mark on the United States of America. Their stories, as varied as our Nation’s people, humble us and inspire our children to reach for the opportunities dreamed about by our forebears.

Over hundreds of years, Irish men, women, and children left the homes of their ancestors, watching the coasts of Donegal and the cliffs of Dingle fade behind them. Boarding overcrowded ships and navigating dangerous seas, these resilient travelers looked to the horizon with hope in their hearts. Many left any valuables, land, or stability they had behind, but they came instead with the true treasures of their homeland—song and literature, humor and tradition, faith and family. And when they landed on our shores, they shared their gifts generously, adding immeasurable value to towns, cities, and communities throughout our Nation.

Today, we draw on the indomitable spirit of those Irish Americans whose strength helped build countless miles of canals and railroads; whose brogues echoed in mills, police stations, and fire halls across our country; and whose blood spilled to defend a Nation and a way of life they helped define. Defying famine, poverty, and discrimination, these sons and daughters of Erin demonstrated extraordinary strength and unshakable faith as they gave their all to help build an America worthy of the journey they and so many others have taken. During Irish-American Heritage Month, we recall their legacy of hard work and perseverance, and we carry forward that singular dedication to forging a more prosperous future for all Americans.

NOW, THEREFORE, I, BARACK OBAMA, President of the United States of America, by virtue of the authority vested in me by the Constitution and the laws of the United States, do hereby proclaim March 2012 as Irish-American Heritage Month. I call upon all Americans to observe this month by celebrating the contributions of Irish Americans to our Nation.

IN WITNESS WHEREOF, I have hereunto set my hand this first day of March, in the year of our Lord two thousand twelve, and of the Independence of the United States of America the two hundred and thirty-sixth.

[FR Doc. 2012-5561

Filed 3-5-12; 8:45 am]

Billing code 3295-F2-P